DEPARTMENT OF HOUSING AND URBAN DEVELOPMENT

[Docket No. FR-5603-N-53]

Continuum of Care Homeless Assistance Grant Application; Continuum of Care Application

AGENCY: Office of the Chief Information Officer, HUD.

ACTION: Notice.

SUMMARY: The proposed information collection requirement described below has been submitted to the Office of Management and Budget (OMB) for review, as required by the Paperwork Reduction Act. The Department is soliciting public comments on the subject proposal.

Pre-established communities, called Continuums of Care (CoC), will complete the Exhibit 1 of the Continuum of Care Homeless Assistance application which collects data about the CoC's strategic planning activities, performance, homeless populations, and data collection methods. This information will be scored using the rating factors listed in the NOFA to determine CoC rank and level of new and renewal funding. State and local governments, public housing authorities and nonprofit organizations will concurrently submit project proposals electronically. The information will be used for grantee selection and monitoring the administration of funds. Response to this request for information is required in order to receive the benefits to be derived.

DATES: Comments Due Date: August 30, 2012.

ADDRESSES: Interested persons are invited to submit comments regarding this proposal. Comments should refer to the proposal by name and/or OMB approval Number (2506-0112) and should be sent to: HUD Desk Officer, Office of Management and Budget, New Executive Office Building, Washington, DC 20503; fax: 202-395-5806. Email: OIRA_Submission@omb.eop.gov fax: 202-395-5806.

FOR FURTHER INFORMATION CONTACT: Colette Pollard., Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Continuum of Care Homeless Assistance Grant Application—Continuum of Care Application.

OMB Approval Number: 2506-0112.

Form Numbers: HUD-27300, HUD-2880, HUD-96010, HUD-92041, HUD-2991 .

Description of the Need for the Information and Its Propose

Pre-established communities, called Continuums of Care (CoC), will complete the Exhibit 1 of the Continuum of Care Homeless Assistance application which collects data about the CoC's strategic planning activities, performance, homeless populations, and data collection methods. This information will be scored using the rating factors listed in the NOFA to determine CoC rank and level of new and renewal funding. State and local governments, public housing authorities and nonprofit organizations will concurrently submit project proposals electronically. The information will be used for grantee selection and monitoring the administration of funds. Response to this request for information is required in order to receive the benefits to be derived.

| Number of respondents | Annual responses | × | Hours per response | = | Burden hours
Reporting Burden | 10,510 | 2.178 |  | 8.070 |  | 184,812

Total Estimated Burden Hours: 184,812.

Status: Revision of a currently approved collection.

Authority: Section 3507 of the Paperwork Reduction Act of 1995, 44 U.S.C. 35, as amended.

Dated: July 25, 2012.
Colette Pollard,
Department Reports Management Officer, Office of the Chief Information Officer.

[FR Doc. 2012-18527 Filed 7-30-12; 8:45 am]

BILLING CODE 4210-67-P